DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of this person are blocked, and U.S. persons are generally prohibited from engaging in transactions with them.

DATES: See SUPPLEMENTARY INFORMATION section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action

On March 31, 2023, OFAC determined that the property and interests in property subject to U.S. jurisdiction of the following person are blocked under the relevant sanctions authority listed below. Dealings in property subject to U.S. jurisdiction directly or indirectly owned, whether individually or in the aggregate, 50 percent or more by or more by one or more blocked persons are prohibited effective as of the date of that status, which may be earlier than the date of OFAC's determination.

Entity

1. TABACALERA DEL ESTE S.A. (a.k.a. TABESA), Ybyra Pyta s/n Esquina Mandarinas, Villa Conavi II, Hernandarias 7220, Paraguay; Calle Yvyra Pyta y Mandarinas, Barrio Santa Teresa, Ciudad Hernandarias, Alto Parana, Paraguay; Organization Established Date 1994; Organization Type: Wholesale of food, beverages and tobacco; Tax ID No. 80008790-9 (Paraguay) [GLOMAG] (Linked To: CARTES JARA, Horacio Manuel).

Identified as an entity in which HORACIO MANUEL CARTES JARA, a person whose property and interests are blocked pursuant to an Executive Order or regulations administered by OFAC, owns, directly or indirectly, a 50 percent or greater interest as set forth in 31 CFR 583.406.

Dated: March 31, 2023.
Andrea Gacki,
Director, Office of Foreign Assets Control, U.S. Department of the Treasury.

[FR Doc. 2023-07479 Filed 4-10-23; 8:45 am]

BILLING CODE 4810-AL-P